DEPARTMENT OF COMMERCE

National Oceanic and Atmospheric Administration

DEPARTMENT OF THE INTERIOR

Fish and Wildlife Service

50 CFR Parts 17 and 222

[I.D. 120301B]

Notice of Public Scoping and Preparation of an Environmental Review Document for a Proposed Incidental Take Permit and Habitat Conservation Plan Addressing Chewuch River Water Withdrawal and Diversion

AGENCIES: Fish and Wildlife Service, Interior; National Marine Fisheries Service, Commerce.

ACTION: Notice of intent to conduct public scoping and to prepare an environmental document.

SUMMARY: Pursuant to the National Environmental Policy Act this document advises the public that the Fish and Wildlife Service and National Marine Fisheries Service (Services) intend to gather information necessary to prepare an environmental review document (environmental assessment or environmental impact statement) related to the proposed approval of a Habitat Conservation Plan (Plan) and an issuance of an incidental take permit (Permit) to take endangered and threatened species in accordance with the Endangered Species Act of 1973, as amended (ESA). The Permit applicant is Chewuch Basin Council (CBC).

The Services are furnishing this document in order to advise other agencies and the public of our intentions and to obtain suggestions and information on the scope of issues to include in the environmental document.

DATES: Written comments from all interested parties must be received on or before March 18, 2002.

ADDRESSES: Comments and requests for information should be sent to Jon Hale, Chewuch Scoping Comments, U.S. Fish and Wildlife Service, 510 Desmond Drive, S.E., Suite 102, Lacey, WA 98503-1273, telephone (360) 753-4371, facsimile (360) 753-9518. Comments and materials received will be available for public inspection by appointment during normal business hours at the above address.

FOR FURTHER INFORMATION CONTACT: Jodi Bush, Project Manager, U.S. Fish and Wildlife Service, (509) 665-3507; or Mike Grady, Project Manager, National Marine Fisheries Service, (206) 526-4645.

SUPPLEMENTARY INFORMATION: The CBC is comprised of the three primary irrigation companies operating in the Chewuch River Basin, including the Chewuch Canal Company, the Fulton Ditch Company, and the Skyline Ditch Company. The application is related to water withdrawals from the Chewuch River located in Okanogan County, WA. The applicant intends to request Permits for chinook salmon, steelhead trout, and bull trout. The CBC may also seek coverage for cutthroat trout and other currently unlisted fish and wildlife species under specific provisions of the Permit, should these species be listed in the future. In accordance with the ESA, the CBC will prepare a Plan for, among other things, minimizing and mitigating any such take that could occur incidental to the proposed Permit activities (water diversion and distribution activities within the irrigation reach).

Section 9 of the ESA and Federal regulations prohibit the “taking” of a species listed as endangered or threatened. The term “take” is defined under the ESA as to harass, harm, pursue, hunt, shoot, wound, kill, trap, capture, or collect or to attempt to engage in any such conduct. The U.S. Fish and Wildlife Service’s definition of harm includes significant habitat modification or degradation where it actually kills or injures wildlife by significantly impairing essential behavioral patterns, including breeding, feeding, and sheltering (50 CFR 17.3). The National Marine Fisheries Service’s definition of harm includes significant habitat modification or degradation where it actually kills or injures fish or wildlife by significantly impairing essential behavioral patterns, including breeding, spawning, rearing, feeding, and sheltering (50 CFR 222.102).

The Services may issue permits, under limited circumstances, to take listed species incidental to, and not the purpose of, otherwise lawful activities. U.S. Fish and Wildlife Service regulations governing permits for endangered species are promulgated in 50 CFR 17.22; and regulations governing permits for threatened species are promulgated in 50 CFR 17.32. National Marine Fisheries Service regulations governing permits for threatened and endangered species are promulgated at 50 CFR 222.307.

Background

The CBC is composed of the Chewuch Canal Company, the Fulton Ditch Company, and the Skyline Ditch Company. These companies own and operate independent diversion structures, fish screens, irrigation ditches, pipes, canals, reservoirs, and related structures located on and adjacent to the Chewuch River in the vicinity to Winthrop, WA. Water from these water diversions is made available to individual shareholders for irrigation of agricultural, residential, and commercial properties and for stock use.

Section 10 of the ESA contains provisions for the issuance of incidental take permits to non-Federal landowners for the take of endangered and threatened species, provided the take is incidental to otherwise lawful activities and will not appreciably reduce the likelihood of the survival and recovery of the species in the wild. In addition, the applicant must prepare and submit to the Services for approval a Plan containing a strategy for minimizing and mitigating all take associated with the proposed activities to the maximum extent practicable. The applicant must also ensure that adequate funding for the Plan will be provided.

The CBC has initiated discussions with the Services regarding the possibility of developing a Plan and securing a Permit for their Chewuch River water diversion and distribution operations. Activities proposed for coverage under the Permit include the following:

(1) Water diversions, conveyance, storage, and shared or commingled drought storage.

(2) Conservation and mitigation actions including: (a) reduction of diversions during low-flow periods, (b) conveyance and on-farm water use efficiency measures, (c) seasonal use of groundwater resources, (d) habitat reclamation and enhancement projects, and (e) expansion and use of water storage facilities.

(3) Periodic operational and maintenance activities including: (a) repair and maintenance of diversion headgates, fish passage structures, diversion dams, and other in-stream improvements; (b) maintenance and improvements in side, return, and tailwater channels and storage facilities; (c) activities set forth in ditch operating plans; and (d) plans for various activities developed as part of an ongoing monitoring and adaptive management approach to watershed management.

The Services will conduct an environmental review of the Plan and prepare an environmental document. The environmental review will analyze the proposal, as well as a full range of reasonable alternatives and the associated impacts of each. The Services are currently in the process of developing alternatives for analysis. Should information become available which indicates the likelihood of significant impacts from the proposed project, an Environmental Impact Statement will be prepared. Otherwise an Environmental Assessment will be prepared.

Comments and suggestions are invited from all interested parties to ensure that the full range of issues related to this proposed action and to all significant issues are identified. Comments or questions concerning this proposed action and the environmental review should be directed to the Fish and Wildlife Service or to National Marine Fisheries Service at the address or telephone numbers provided above.

The environmental review of this project will be conducted in accordance with the requirements of the National Environmental Policy Act of 1969, as amended (42 U.S.C. 4321 et seq.), National Environmental Policy Act Regulations (40 CFR parts 15001-508), other appropriate Federal laws and regulations, and policies and procedures of the Services for compliance with those regulations.

Dated: December 6, 2001.
Rowan W. Gould,
Deputy Regional Director, Fish and Wildlife Service, Region 1, Portland, OR.

February 11, 2002.
Phil Williams,
Acting Chief, Endangered Species Division, Office of Protected Resources, National Marine Fisheries Service.

[FR Doc. 02-3815 Filed 2-14-02; 8:45 am]

BILLING CODES 3510-22-S, 4310-55-S